DEPARTMENT OF DEFENSE

Office of the Secretary

Defense Acquisition University Board of Visitors; Notice of Federal Advisory Committee Meeting; Cancellation

AGENCY: Defense Acquisition University, DoD.

ACTION: Meeting notice; cancellation.

SUMMARY: On Tuesday, January 13, 2015 (80 FR 1627-1628), the Department of Defense published a notice announcing a meeting of the Defense Acquisition University Board of Visitors. The Department of Defense is publishing this notice to announce the cancellation of this meeting, which was scheduled for Wednesday, January 28, 2015, from 9:00 a.m. to 12:00 p.m.

DATES: The meeting scheduled for Wednesday, January 28, 2015, from 9:00 a.m. to 12:00 p.m. has been cancelled.

FOR FURTHER INFORMATION CONTACT: Caren Hergenroeder, Protocol Director, DAU. Phone: 703-805-5134. Fax: 703-805-5940. Email: caren.hergenroeder@dau.mil.

SUPPLEMENTARY INFORMATION: Due to difficulties beyond the control of the Department of Defense, the Designated Federal Officer was unable to submit the Federal Register notice pertaining to cancelling the Defense Acquisition University Board of Visitors' meeting, scheduled for January 28, 2015, that ensured compliance with the requirements of 41 CFR 102-3.150(a). Accordingly, the Advisory Committee Management Officer for the Department of Defense, waives the 15-calendar day notification requirement pursuant to 41 CFR 102-3.150(b).

Dated: January 20, 2015.
Aaron Siegel,
Alternate OSD Federal Register Liaison Officer, Department of Defense.

[FR Doc. 2015-01134 Filed 1-22-15; 8:45 am]

BILLING CODE 5001-06-P